DEPARTMENT OF ENERGY

Federal Energy Regulatory Commission

[Project No. 2899-144]

Idaho Power Company and Milner Dam, Inc.; Notice of Application for Amendment of License and Soliciting Comment, Motions To Intervene, and Protests

September 24, 2010.

Take notice that the following hydroelectric application has been filed with the Commission and is available for public comment.

a. Type of Application: Amendment of License.

b. Project No. 2899-144.

c. Date Filed: September 9, 2010.

d. Applicants: Idaho Power Company and Milner Dam, Inc.

e. Name of Project: Milner Hydroelectric Project.

f. Location: The project is located on the Snake River in Twin Falls and Cassia Counties, Idaho.

g. Filed Pursuant to: Federal Power Act, 16 U.S.C. 791(a)-825(r).

h. Applicants Contact: Rex Blackburn, Senior Vice President and General Counsel, and Nathan F. Gardiner, Idaho Power Company, 1221 West Idaho Street, P.O. Box 70, Boise, Idaho 83707-0070; telephone: (208) 388-2713.

i. FERC Contact: Any questions on this notice should be addressed to John Mark at (212) 273-5940 or john.mark@ferc.gov.

j. Deadline for filing comments, motions to intervene, and protests: October 25, 2010.

Comments, protests, and interventions may be filed electronically via the Internet in lieu of paper. See 18 CFR 385.2001(a)(1)(iii) and the instructions on the Commission's Web site (http://www.ferc.gov/docs-filing/efiling.asp). Commenters can submit brief comments up to 6,000 characters, without prior registration, using the eComment system (http://www.ferc.gov/docs-filing/ecomment.asp) and must include name and contact information at the end of comments. The Commission strongly encourages electronic filings.

All documents (original and seven copies) filed by paper should be sent to: Secretary, Federal Energy Regulatory Commission, 888 First Street, NE., Washington, DC 20426. Please include the project number (P-2899-144) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicants specified in the particular application.

k. Description of the Application: The Applicants propose to amend article 415 of the project license to include April as a month when whitewater releases are potentially available at the Milner Project. Specifically, the Applicants request that the first paragraph of article 415 of the license for the Milner Project be amended to read as follows: Upon receiving a whitewater release request by two or more boaters by 3:00 p.m. on Friday before the weekend and after at least two boaters have checked in at the main powerhouse on the day of the whitewater release, the licensees shall not operate the main powerhouse, located 1.6 miles downstream of Milner Dam, for up to 4 weekend days (included is the observed Memorial Day holiday) from 10:00 a.m. to 3:00 p.m. between April 1 and June 30, when inflow to the Milner Project, in excess of irrigation demands, is between 10,000 and 12,500 cfs. Powerhouse operation will resume when inflow in excess of irrigation demand is greater than 12,500 cfs and utilize for generation any flows in excess of 12,500 cfs. The licensees are required by article 417 to provide a communication network used to predict the volume of streamflow that will be available for whitewater boating during April, May, and June.

l. Locations of the Application: A copy of the application is available for inspection and reproduction at the Commission's Pubic Reference Room, located at 888 First Street, NE., Room 2A, Washington, DC 20426, or by calling (202) 502-8371. This filing may also be viewed on the Commission's Web site using the “eLibrary” link at http://elibrary.ferc.gov/idmws/search/fercgensearch.asp. Enter the docket number excluding the last three digits (P-2899) in the docket number field to access the document. You may also register online at http://www.ferc.gov/docs-filing/esubscription.asp to be notified via e-mail of new filings and issuances related to this or other pending projects. For assistance, call 1-866-208-3676 or e-mail FERCOnlineSuport@ferc.gov, for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTESTS”, or “MOTION TO INTERVENE”, as applicable, and the Project Number of the particular application to which the filing refers.

p. Agency Comments: Federal, state, and local agencies are invited to file comments on the described application. A copy of the application may be obtained by agencies directly from the Applicants. If an agency does not file comments within the time specified for filing comments, it will be presumed to have no comments. One copy of an agency's comments must also be sent to the Applicants' representatives.

Kimberly D. Bose,
Secretary.

[FR Doc. 2010-24979 Filed 10-4-10; 8:45 am]

BILLING CODE 6717-01-P